DEPARTMENT OF COMMERCE

Foreign-Trade Zones Board

[B-10-2014]

Proposed Foreign-Trade Zone—Cortland County, New York Under Alternative Site Framework

An application has been submitted to the Foreign-Trade Zones (FTZ) Board by Cortland County, New York to establish a foreign-trade zone in Cortland County, adjacent to the Syracuse CBP port of entry, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on February 6, 2014. The applicant is authorized to make the proposal under Chapter 190, Laws of New York, Section 224, 23-a.

The proposed zone would be the fourth zone adjacent to the Syracuse CBP port of entry. The existing zones are as follows: FTZ 90, Onondaga County (Grantee: County of Onondaga, Board Order 230, 11/4/1983); FTZ 172, Oneida County (Grantee: County of Oneida, Board Order 502, 1/8/1991); and, FTZ 285, Chenango County (Grantee: Chenango County, Board Order 1886, 3/25/2013).

The applicant's proposed service area under the ASF would be Cortland County. If approved, the applicant would be able to serve sites throughout the service area based on companies' needs for FTZ designation. The proposed service area is adjacent to the Syracuse Customs and Border Protection port of entry. No sites or subzones are being requested at this time.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is April 14, 2014. Rebuttal comments in response to material submitted during the foregoing period may be submitted during the subsequent 15-day period to April 28, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Elizabeth Whiteman at Elizabeth.Whiteman@trade.gov or (202) 482-0473.

Dated: February 5, 2014.
Andrew McGilvray,
Executive Secretary.

[FR Doc. 2014-03073 Filed 2-11-14; 8:45 am]

BILLING CODE 3510-DS-P